ENVIRONMENTAL PROTECTION AGENCY

[FRL-6726-6]

Agency Information Collection Activities: Submission for OMB Review; Comment Request; National Emission Standards for Air Pollutants for Source Categories: Flexible Polyurethane Foam Production—MACT

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: MACT, Subpart III, National Emission Standards for Air Pollutants for Flexible Polyurethane Foam Production. OMB Control Number 2060-0357, expiration date 8/31/00. The ICR describes the nature of the information collection and its expected burden and cost; where appropriate, it includes the actual data collection instrument.

DATES: Comments must be submitted on or before July 31, 2000.

FOR FURTHER INFORMATION CONTACT: For a copy of the ICR contact Sandy Farmer at EPA by phone at (202) 260-2740, by E-Mail at Farmer.Sandy@epamail.epa.gov or download off the Internet at http://www.epa.gov/icr and refer to EPA ICR No. 1783.02. For technical questions about the ICR contact Greg Fried at EPA by phone at (202) 564-7016 or by email at fried.gregory@epa.gov.

SUPPLEMENTARY INFORMATION: Title: ICR for MACT Subpart III—National Emission Standards for Hazardous Air Pollutants for Flexible Polyurethane Foam Production, OMB Control Number 2060-0357, EPA ICR No. 1783.02, expiration date 8/31/00. This is a request for extension of a currently approved collection.

Abstract: This standard applies to owners or operators of new and existing facilities that engage in the manufacture of flexible polyurethane foam products. This includes facilities making slabstock flexible polyurethane foam (“slabstock”), rebond flexible polyurethane foam (“rebond”), and/or molded flexible polyurethane foam (“molded foam”).

For slabstock foam producers, these requirements include an initial notification, notification of compliance status, and semiannual reports thereafter. In addition, respondents are required to submit a pre-compliance report that describes the HAP compliance procedures, and recordkeeping procedures. Respondents electing to comply with the slabstock foam emission limitation using recovery devices must measure and record emissions as specified in section 63.1297 of the final rule. Molded and rebond foam producers have only to submit a notification of compliance status report.

Owners or operators of slabstock flexible polyurethane foam production facilities must maintain a copy of all HAP usage records onsite for a minimum of five years. All reports are to be submitted upon request to EPA or the enforcement authority by EPA. The information is used to determine whether or not all sources subject to the MACT are achieving the standards.

An Agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on April 18, 2000; no comments were received.

Burden Statement: The annual burden for this collection of information is estimated to average 45 hours over the next three years. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Flexible Polyurethane Foam Production Plants.

Estimated Number of Respondents: 143.

Frequency of Response: Initial and semiannual.

Estimated Total Annual Hour Burden: 6,400 hours.

Estimated Total Annualized Capital O&M Cost Burden: $0.

Send comments on the Agency's need for this information, the accuracy of the provided burden estimates, and any suggested methods for minimizing respondent burden, including through the use of automated collection techniques to the following addresses. Please refer to EPA ICR No.1783.02 and OMB Control No. 2060-0357 in any correspondence.

Ms. Sandy Farmer, U.S. Environmental Protection Agency, Office of Environmental Information, Collection Strategies Division (2822), 1200 Pennsylvania Ave, NW, Washington, DC 20460;

and

Office of Information and Regulatory Affairs, Office of Management and Budget, Attention: Desk Officer for EPA, 725 17th Street, NW, Washington, DC 20503.

Dated: June 20, 2000.
Oscar Morales,
Director, Collection Strategies Division.

[FR Doc. 00-16516 Filed 6-28-00; 8:45 am]

BILLING CODE 6560-50-P